DEPARTMENT OF ENERGY

Federal Energy Regulatory Commission

Combined Notice of Filings #1

Take notice that the Commission received the following electric corporate filings:

Docket Numbers: EC18-117-000.

Applicants: NextEra Energy, Inc., 700 Universe, LLC, Gulf Power Company.

Description: Joint Application for Authorization Under Section 203 of the Federal Power Act of NextEra Energy, Inc.

Filed Date: 7/3/18.

Accession Number: 20180703-5177.

Comments Due: 5 p.m. ET 7/24/18.

Docket Numbers: EC18-118-000.

Applicants: Essential Power Rock Springs, LLC, Old Dominion Electric Cooperative, Inc.

Description: Joint Application for Authorization for Disposition and Consolidation of Jurisdictional Facilities and Acquisition of an Existing Generation Facility and Request for Expedited Action of Essential Power Rock Springs, LLC.

Filed Date: 7/3/18.

Accession Number: 20180703-5180.

Comments Due: 5 p.m. ET 7/24/18.

Docket Numbers: EC18-119-000.

Applicants: NextEra Energy, Inc., 700 Universe, LLC, Southern Company—Florida, LLC, Oleander Power Project, Limited Partnership.

Description: Joint Application for Authorization Under Section 203 of the Federal Power Act of NextEra Energy, Inc., et. al.

Filed Date: 7/3/18.

Accession Number: 20180703-5183.

Comments Due: 5 p.m. ET 7/24/18.

Take notice that the Commission received the following electric rate filings:

Docket Numbers: ER18-1961-000.

Applicants: South Central MCN LLC.

Description: Proposed Transmission Formula Rate Revisions of South Central MCN LLC.

Filed Date: 7/3/18.

Accession Number: 20180703-5166.

Comments Due: 5 p.m. ET 7/24/18.

Docket Numbers: ER18-1962-000.

Applicants: PJM Interconnection, L.L.C.

Description: § 205(d) Rate Filing: First Revised ISA, SA No. 4792; Queue No. AB2-038/AB2-041 to be effective 6/4/2018.

Filed Date: 7/5/18.

Accession Number: 20180705-5050.

Comments Due: 5 p.m. ET 7/26/18.

Docket Numbers: ER18-1963-000.

Applicants: Midwest Energy, Inc.

Description: Petition for Temporary Waiver of Tariff Provisions of Midwest Energy, Inc.

Filed Date: 7/5/18.

Accession Number: 20180705-5068.

Comments Due: 5 p.m. ET 7/26/18.

Docket Numbers: ER18-1964-000.

Applicants: Midcontinent Independent System Operator, Inc.

Description: § 205(d) Rate Filing: 2018-07-05_GIA Self-Fund Vacatur Filing to be effective 6/24/2015.

Filed Date: 7/5/18.

Accession Number: 20180705-5080.

Comments Due: 5 p.m. ET 7/26/18.

Docket Numbers: ER18-1965-000.

Applicants: Midcontinent Independent System Operator, Inc.

Description: § 205(d) Rate Filing: 2018-07-05_MPFCA-FCA Self-Fund Filing to be effective 6/24/2015.

Filed Date: 7/5/18.

Accession Number: 20180705-5083.

Comments Due: 5 p.m. ET 7/26/18.

Docket Numbers: ER18-1966-000.

Applicants: Wisconsin Electric Power Company.

Description: § 205(d) Rate Filing: 2018 Formula Rate Update Filing to be effective 9/4/2018.

Filed Date: 7/5/18.

Accession Number: 20180705-5084.

Comments Due: 5 p.m. ET 7/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 5, 2018.
Nathaniel J. Davis, Sr.,
Deputy Secretary.

[FR Doc. 2018-14831 Filed 7-10-18; 8:45 am]

BILLING CODE 6717-01-P